ENVIRONMENTAL PROTECTION AGENCY

40 CFR Part 62

[IN147-1b; FRL-7464-5]

Approval and Promulgation of State Implementation Plans; Indiana

AGENCY: Environmental Protection Agency (EPA).

ACTION: Proposed rule.

SUMMARY: The EPA is proposing to approve the removal of State rules controlling fluoride emission limitations from existing primary aluminum plants as a revision to the plan for control of fluoride emissions from existing primary aluminum plants (plan) as requested by the State of Indiana on October 17, 2002, and January 22, 2003. Indiana has replaced this rule with another regulation which incorporates by reference current Federal requirements into the Indiana Administrative Code. The rule being removed applies to a single source, Aluminum Company of America (ALCOA), located in Warrick County. Because ALCOA remains subject to more stringent Federal requirements, EPA approval should not result in an adverse impact on air quality.

In the “Rules and Regulations” section of this Federal Register, EPA is approving the State's request as a direct final rule without prior proposal because EPA views this action as noncontroversial and anticipates no adverse comments. The rationale for approval is set forth in the direct final rule. If EPA receives no written adverse comments, EPA will take no further action on this proposed rule. If EPA receives written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by April 10, 2003.

ADDRESSES: Written comments should be mailed to: J. Elmer Bortzer, Chief, Regulation Development Section, Air Programs Branch (AR-18J), USEPA, Region 5, 77 West Jackson Boulevard, Chicago, Illinois 60604.

A copy of the plan revision request is available for inspection at the Environmental Protection Agency, Region 5, Air and Radiation Division, 77 West Jackson Boulevard, Chicago, Illinois 60604. (Please telephone Randolph Cano at (312) 886-6036 before visiting the Region 5 Office.)

FOR FURTHER INFORMATION CONTACT: Randolph Cano, Environmental Protection Specialist, Regulation Development Section, Air Programs Branch (AR-18J), USEPA, Region 5, 77 West Jackson Boulevard, Chicago, Illinois 60604, (312) 886-6036.

SUPPLEMENTARY INFORMATION: Throughout this document whenever “we,” “us,” or “our” are used we mean the EPA.

I. What action is EPA taking today?

II. Where can I find more information about this proposal and corresponding direct final rule?

I. What Action Is EPA Taking Today?

The EPA is proposing to approve the removal of State rules controlling fluoride emission limitations from existing primary aluminum plants as a revision to the plan for control of fluoride emissions from existing primary aluminum plants as requested by the State of Indiana on October 17, 2002, and as supplemented on January 22, 2003. The State submittal is in response to the repeal of these regulations from the Indiana Administrative Code (IAC). These rules have been superseded by other State rules which incorporate current Federal requirements into the IAC by reference. Because Federal requirements are federally enforceable, they need not be included in the State plan. The rule removed from the Indiana Plan applies to a single source, Aluminum Company of America (ALCOA) located in Warrick County. Because ALCOA remains subject to more stringent Federal requirements, Federal approval of this repeal should not result in an adverse impact on air quality.

II. Where Can I Find More Information About This Proposal and Corresponding Direct Final Rule?

For additional information see the direct final rule published in the rules and regulations section of this Federal Register.

Authority: 42 U.S.C. 4201 et seq.

Dated: February 27, 2003.
Bharat Mathur,
Acting Regional Administrator, Region 5.

[FR Doc. 03-5742 Filed 3-10-03; 8:45 am]

BILLING CODE 6560-50-P